DEPARTMENT OF THE INTERIOR

Bureau of Reclamation

[INT-FES 00-21]

Bostwick Division, Frenchman-Cambridge Division, and Kanaska Division, Almena Unit

AGENCY: Bureau of Reclamation, Interior.

ACTION: Notice of availability for Final Environmental Impact Statement (FEIS).

SUMMARY: Pursuant to section 102(2)(C) of the National Environmental Policy Act of 1969, as amended, the Department of the Interior, Bureau of Reclamation, has completed the FEIS on the renewal of one long-term water service contract and the conversion of four long-term water service contracts to repayment contracts for irrigation water from Federal projects in the Republican River basin in Nebraska and Kansas. The FEIS describes six alternatives, including no action and a new “Negotiated Alternative,” and evaluates the environmental consequences of renewing the long-term water service contract, the conversion to repayment contracts, and the modifications to district operations.

Reclamation's proposed action is to renew the long-term water service contract for the Frenchman Valley Irrigation District and convert long-term water service contracts for the Frenchman-Cambridge, Bostwick in Nebraska, Kansas-Bostwick, and Almena irrigation districts. The proposed action exercises the provisions of several Federal laws applicable to Reclamation.

ADDRESSES: Printed copies of a Summary of the FEIS or the entire FEIS (with appendices) may be obtained from Judy O'Sullivan, Nebraska-Kansas Area Office, P.O. Box 1607, Grand Island NE 68802 or by telephone at (308) 389-4622 x211. Copies are also available for public inspection and review on the Internet at “www.gp.usbr.gov” in the “Current Activities” section under “Environmental Activities.”

See Supplementary Information section for additional addresses where the FEIS is available for public inspection and review.

FOR FURTHER INFORMATION CONTACT: Jill Manring, Basin Study Coordinator, Nebraska-Kansas Area Office, P.O. Box 1607, Grand Island NE 68802—telephone (308) 389-4622 x214.

SUPPLEMENTARY INFORMATION:

FEIS Public Inspection and Review Locations

Offices

• Bureau of Reclamation, Nebraska-Kansas Area Office, 203 West Second Street, Grand Island NE 68801—telephone (308) 389-4622

• Bureau of Reclamation, Great Plains Regional Office, 316 North 26th Street, Billings MT 59101—telephone (406) 247-7638

• Bureau of Reclamation, Reclamation Service Center Library, Building 67, Room 167, Denver Federal Center, Sixth and Kipling, Denver CO 80225—telephone (303) 445-2072

• Bureau of Reclamation, Program Analysis Office, Room 7456, 1849 C Street NW, Washington DC 20240—telephone (202) 208-4662

• Bostwick Irrigation District in Nebraska, Red Cloud NE

• Kansas Bostwick Irrigation District No. 2, Courtland KS

• Frenchman-Cambridge Irrigation District, Cambridge NE

• Frenchman Valley Irrigation District, Culbertson NE

• Almena Irrigation District No. 5, Almena KS

Libraries

• Alma Public Library, West Second Street, Alma NE 68920-3378

• Blue Hill Public Library, 317 West Gage Street, Blue Hill NE 68930-2068

• Butler Memorial Library, 621 Pennsylvania, Cambridge NE 69022

• Franklin Public Library, 1502 P Street, Franklin NE 68939-1200

• Hastings Public Library, 517 West Fourth Street, Hastings NE 68901-7560

• Imperial Public Library, 703 Broadway Street, Imperial NE 69033-4017

• Kearney Public Library, 2020 First Avenue, Kearney NE 68847-5306

• McCook Library, 802 Norris Avenue, McCook NE 69001-3143

• Nelson Public Library, 10 West Third Street, Nelson NE 68961-1246

• Red Cloud Public Library, 537 North Webster Street, Red Cloud NE 68970-2421

• Carnegie Public Library, 449 North Kansas Street, Superior NE 68978-1852

• Trenton Village Library, 406 East First Street, Trenton NE 69044

• Wauneta City Library, 319 North Tecumseh, Wauneta NE 69045-2011

• Almena Public Library, 415 Main, Almena KS 67622

• Belleville Public Library, 1327 Nineteenth Street, Belleville KS 66935

• Courtland City Library, 403 Main Street, Courtland KS 66939

• Northwest Kansas Library System, 2 Washington Square, Norton KS 67654

The FEIS considers the effects of renewing one long-term water service contract and converting four long-term water service contracts to repayment contracts. The authority for contract renewal and conversion is found in the Act of July 2, 1956, 70 Stat. 483, and the Act of June 21, 1963, 77 Stat. 68, which requires the Secretary of the Department of the Interior to renew long-term water service contracts and to convert long-term water service contracts to repayment contracts upon request.

Federally-developed impoundments in the Republican River Basin have been providing supplemental irrigation water to the irrigation districts since 1956. These irrigation districts include the Almena, Bostwick, Frenchman Valley, Frenchman-Cambridge, and Kansas-Bostwick irrigation districts. The original long-term water service contracts had terms of 40 years and began to expire in 1996. In order to continue the rights and obligations of the original contracts during the contract renewal process, these contracts were extended for an additional four years as authorized by Congress in the Irrigation Project Extension Act of 1996, Public Law 104-326.

The long-term water service contract with the Frenchman Valley Irrigation District will have a term of 40 years beginning on January 1, 2001. The repayment contracts with the Almena, Bostwick, Frenchman-Cambridge, and Kansas-Bostwick irrigation districts will each have a repayment period of 40 years.

The FEIS evaluated six alternatives, including the No Action Alternative and a new Negotiated Alternative, and described the environmental consequences of contract renewal and conversion. The following issues are considered in the FEIS: water resources, water quality, recreation, regional income, environmental justice, reservoir riparian vegetation, riverine riparian vegetation, wetlands, threatened and endangered species, avian and terrestrial wildlife, migratory waterfowl, aquatic resources, biodiversity, Indian trust assets, cultural resources, sacred sites, and cumulative impacts.

The terms and conditions of the proposed long-term water service and repayment contracts represent Reclamation's preferred alternative described as the Negotiated Alternative in the FEIS. The Negotiated Alternative combines features of the Irrigation and Multi-Use alternatives that are designed to continue delivery of irrigation water and maintain limited reservoir recreation and fisheries. When compared to the No Action Alternative, there are no significant environmental, socioeconomic, or agricultural impacts associated with the Negotiated Alternative. The current operations of some of the reservoirs will be modified to establish a new minimum pool elevation to benefit reservoir recreation and fisheries.

Ten Indian tribes, the Mni-SOSE Intertribal Water Rights Coalition, and the Bureau of Indian Affairs, have been contacted regarding Indian trust assets that may be affected by the proposed action. No potentially-affected Indian trust assets have been identified.

The DEIS was issued on October 14, 1999. Responses to comments received from agencies, interested organizations, and individuals on the DEIS are addressed in the FEIS. No decision will be made on the proposed action until 30 days following the release of the FEIS. Following the 30-day waiting period, Reclamation will complete and sign a Record of Decision (ROD). The ROD will describe the action to be implemented and will discuss factors contributing to that decision.

Dated: June 6, 2000.
Fred R. Ore,
Area Manager, Nebraska-Kansas Area Office.

[FR Doc. 00-14810 Filed 6-16-00; 8:45 am]

BILLING CODE 4310-MN-P